DEPARTMENT OF HEALTH AND HUMAN SERVICES

Administration for Children And Families

Administration on Children, Youth, and Families, Children's Bureau; Single-Source Permanent Replacement Grant

AGENCY: Children's Bureau, Administration on Children, Youth and Families, Administration for Children and Families; Department of Health and Human Services.

ACTION: Single-Source Permanent Replacement Grant.

CFDA#: 93.648.

Legislative Authority: Child Welfare Training [Section IV-B, section 426 (a) 1 (C) of the Social Security Act]

Amount of Award: $200,000 per year for one year.

Project Period: 9/30/2007-9/29/2008.

Justification for the Exception to Competition: Sonoma State University, California Institute on Human Services, Rohnert Park, CA, (the grantee) has relinquished their grant entitled, “Training for Effective Child Welfare Practice in Rural Communities,” funded under the Child Welfare Training program. San Jose State University Research Foundation, San Jose, CA, has been authorized as permanent successor grantee for this project. The Project Director under the former grantee will continue in the same capacity with San Jose State University Research Foundation. Awarding these funds will allow the project to complete their goals and objectives as originally approved.

FOR FURTHER INFORMATION CONTACT: Jan P. Shafer, Children's Bureau, Portals Building, Suite 800, 1250 Maryland Avenue, SW., Washington, DC 20024. Telephone: 202-205-8172.

Dated: October 3, 2007.
Joan E. Ohl,
Commissioner, Administration on Children, Youth and Families.

[FR Doc. E7-20094 Filed 10-11-07; 8:45 am]

BILLING CODE 4184-01-P